NATIONAL AERONAUTICS AND SPACE ADMINISTRATION

[Notice (22-023)]

NASA Advisory Council; Aeronautics Committee; Meeting.

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for soliciting, from the aeronautics community and other persons, research, and technical information relevant to program planning.

DATES: Wednesday, April 27, 2022, 11:30 a.m.-5:30 p.m., Eastern Time.

ADDRESSES: Meeting will be virtual only. See dial-in and WebEx information below under SUPPLEMENTARY INFORMATION.

FOR FURTHER INFORMATION CONTACT: Ms. Irma Rodriguez, Designated Federal Officer, Aeronautics Research Mission Directorate, NASA Headquarters, Washington, DC 20546, (202) 527-4826, or irma.c.rodriguez@nasa.gov.

SUPPLEMENTARY INFORMATION: As noted above, this meeting is virtual and will take place telephonically and via WebEx. Any interested person must use a touch-tone phone to participate in this meeting. The WebEx link is https://nasaenterprise.webex.com/nasaenterprise/j.php?MTID=md18a1c8a22cc62b76b2387700e68f40b, the meeting number is 2764 831 0780, and the password is M4MxhZBi@95 (case sensitive). You can also dial in by phone, U.S. Toll: 1-415-527-5035 passcode: 2764 831 0780. The agenda for the meeting includes the following topics:

—Aeronautics Research Mission Directorate (ARMD) FY 2023 Budget Overview

—Sustainable Flight National Partnership

— Future Airspace Vision

It is imperative that the meeting be held on this date to accommodate the scheduling priorities of the key participants.

Patricia Rausch,
Advisory Committee Management Officer, National Aeronautics and Space Administration.

[FR Doc. 2022-06921 Filed 3-31-22; 8:45 am]

BILLING CODE 7510-13-P